DEPARTMENT OF TRANSPORTATION

Federal Railroad Administration

[Docket No. FRA-2025-0013]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) summarized below. Before submitting this ICR to the Office of Management and Budget (OMB) for approval, FRA is soliciting public comment on specific aspects of the activities identified in the ICR.

DATES: Interested persons are invited to submit comments on or before May 12, 2025.

ADDRESSES: Written comments and recommendations for the proposed ICR should be submitted on www.regulations.gov to the docket, Docket No. FRA-2025-0013. All comments received will be posted without change to the docket, including any personal information provided. Please refer to the assigned OMB control number (2130-0006) in any correspondence submitted. FRA will summarize comments received in response to this notice in a subsequent notice made available to the public and include them in its information collection submission to OMB for approval.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60 days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: Railroad Signal System Requirements.

OMB Control Number: 2130-0006.

Abstract: The information collected under 49 CFR parts 233, 235, and 236 is used by FRA to monitor railroad compliance with FRA's inspection and testing requirements for signal systems, as well as to review and approve railroad requests to discontinue or materially modify existing signal systems. The information collected is also used by FRA to monitor signal failures (e.g., failure of a signal appliance, device, method, or system to function or indicate as required by 49 CFR part 236 that results in a more favorable aspect than intended or other condition hazardous to the movement of a train).

In this 60-day notice, FRA has made multiple adjustments to estimates that decreased the previously approved burden hours by 1,435 hours. The decrease in burden is solely a result of these adjustments. FRA conducted a thorough review of the paperwork burden for this information collection and has determined that some of the estimates and average time per responses were outdated. For example:

• Under §§ 233.7 and 235.20, the burden hours have increased by a total of 37.50 hours to reflect that submission of signal failure reports and protests have both increased over this last three-year reporting period. This change is primarily due to an increase in submissions from labor organizations. (The burden hours under § 235.20 have also increased due to an increase in average time per response, discussed below.)

• Under § 235.5, the number of applications has decreased over the last reporting period. Consequently, this submission reflects a decrease in the number of responses resulting in a burden reduction of 640 hours.

• As part of the evaluation process for this submission, the average time for each requirement was reviewed and updates were made to the estimates for §§ 235.20 protests and 236.590 pneumatic apparatus test records. The average time per response reflected under § 235.20 was increased from 30 minutes to one (1) hour, while the average time for § 236.590 decreased from 22.5 minutes to five (5) minutes. This reduction is based on changes in the pneumatic apparatus inspections and the exceptions that allow a 92-day inspection interval if certain parameters are met. Overall, these adjustments contributed to a reduction in the total burden hours for this submission.

• Finally, under § 236.110, FRA determined that the burden for railroads to request authorization from FRA to use an electronic records system was not included in the previously reported burden; only the record keeping burden was included. Therefore, FRA increased the total estimated burden in this submission.

Type of Request: Extension without change (with changes in estimates) of a currently approved collection.

Affected Public: Businesses.

Form(s): FRA F 6180.14.

Respondent Universe: 150 ¹ railroads.

¹ In this submission, a recent FRA data collection shows approximately 150 railroads, with wayside signaling systems, that must comply with 49 CFR 233.5 and 233.7. When FRA last published a notice in connection with its submission of this ICR (OMB control number 2130-0006), on October 22, 2021 at 86 FR 58722, that notice was based on a Respondent Universe of 754 railroads.

² Totals may not sum due to rounding.

Frequency of Submission: On occasion.

Reporting Burden
CFR section | Respondent universe | Total annual responses | Average time per response | Total annual burden hours | Wage rate | Total cost equivalent U.S.D. (E)
|  | (A) | (B) | (A * B = C) | (D) | (E = C * D)
233.5—Accidents resulting from signal failure | 150 railroads | 1 | 30 minutes | 0.50 | $89.13 | $44.57
233.7—Signal failure reports—Form FRA F 6180.14 “False Proceed Signal Report” | 150 railroads | 20 | 15 minutes | 5 | 89.13 | 445.65
235.5—Changes requiring filing of application | 117 railroads | 8 | 10 hours | 80 | 89.13 | 7,130.40
235.8—Relief from the requirements of part 236 of this title | 117 railroads | 8 | 10 hours | 100 | 89.13 | 8,913.00
235.20—Protests | Railroads/Public | 40 | 1 hour | 40 | 89.13 | 3,565.20
236.110—Results of tests | 117 railroads | 300,000 (paper) + 636,660 (electronic) | 27 minutes (paper) + 8 minutes (electronic) | 219,888 | 69.79 | 15,345,983.52
236.110(e)—Authorization to use electronic or automated tracking systems for test results | 117 railroads | 8 | 80 hours | 640 | 89.13 | 57,043.20
236.587—Departure Test | The burden for this requirement is covered under OMB Control Number 2130-0553.
236.590—Pneumatic apparatus | 42 railroads | 6,697 | 5 minutes | 558.08 | 80.38 | 44,858.47
Total ² | 150 railroads | 943,444 responses | N/A | 221,312 |  | 15,467,984

Total Estimated Annual Responses: 943,444.

Total Estimated Annual Burden: 221,312 hours.

Total Estimated Annual Dollar Cost Equivalent: $15,467,984.

FRA informs all interested parties that it may not conduct or sponsor, and a respondent is not required to respond to, a collection of information that does not display a currently valid OMB control number.

Authority: 44 U.S.C. 3501-3520.

Christopher S. Van Nostrand,
Deputy Chief Counsel.

[FR Doc. 2025-03919 Filed 3-11-25; 8:45 am]

BILLING CODE 4910-06-P